INTERNATIONAL TRADE COMMISSION

[Investigation No. 731-TA-921 (Second Review)]

Folding Gift Boxes From China; Postponement of Release of Staff Report and Date for Final Comments

AGENCY: United States International Trade Commission.

ACTION: Notice.

DATES: Effective Date: August 7, 2012.

FOR FURTHER INFORMATION CONTACT: Angela Newell (202-708-5409), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this review may be viewed on the Commission's electronic docket (EDIS) at http://edis.usitc.gov.

SUPPLEMENTARY INFORMATION: On July 6, 2012, the Commission established a schedule for this expedited review (77 FR 42762, July 20, 2012). On July 31, 2012 (77 FR 45337), the Department of Commerce published a notice extending its time limits for issuing preliminary and final results in the second five-year review of the antidumping duty order on Folding Gift Boxes from China. Given this extension by Commerce, the date for the Commission's final determination is also extended pursuant to 19 U.S.C. 1675(c)(5)(B). Accordingly, the Commission is postponing the release of its staff report and final comment date until after Commerce's preliminary determination scheduled for October 19, 2012. At that time, the Commission will establish revised dates for the release of the report and the submission of final comments.

For further information concerning this review see the Commission's notice cited above and the Commission's Rules of Practice and Procedure, part 201, subparts A through E (19 CFR part 201), and part 207, subparts A and C (19 CFR part 207).

Authority: This review is being conducted under authority of title VII of the Tariff Act of 1930; this notice is published pursuant to section 207.21 of the Commission's rules.

Issued: August 8, 2012.
By order of the Commission.
Lisa R. Barton,
Acting Secretary to the Commission.

[FR Doc. 2012-19792 Filed 8-10-12; 8:45 am]

BILLING CODE P